GENERAL SERVICES ADMINISTRATION

[Notice-PBS-2020-06; Docket No. 2020-0002; Sequence No. 23]

Notice of Availability and Announcement of Meeting for the Chet Holifield Federal Building Draft Environmental Impact Statement, Laguna Niguel, California

AGENCY: Public Buildings Service (PBS), General Services Administration (GSA).

ACTION: Notice of Availability; Announcement of Meeting.

SUMMARY: This notice announces the availability of the Draft Environmental Impact Statement (DEIS), which examines the potential impacts of a proposal by the General Services Administration (GSA) to address long-term housing for the tenants of the Chet Holifield Federal Building (CHFB). The building is owned and managed by GSA and is occupied by various federal agency tenants, with the United States Citizenship and Immigration Services (USCIS) serving as the largest tenant. The DEIS describes the reason the project is being proposed, the alternatives being considered, the potential impacts of each of the alternatives on the existing environment, and avoidance, minimization, and/or mitigation measures related to those alternatives. GSA is serving as the lead agency in this undertaking, and acting on behalf of its tenants at this facility.

DATES: GSA will hold a virtual public meeting for the DEIS on Tuesday, August 4, 2020 from 4:00 p.m. to 6:00 p.m., Pacific Time (PT). Interested parties are encouraged to join and provide comments on the DEIS. The public comment period for the DEIS ends Friday, September 4, 2020. After this date, GSA will prepare the Final EIS.

ADDRESSES: Comments will be accepted during the meeting, by mail, and by email. Questions or comments concerning the DEIS should be directed to:

• Email: osmahn.kadri@gsa.gov.

• Postal Mail/Commercial Delivery: Potomac-Hudson Engineering, Inc., ATTN: CHFB Draft EIS, 77 Upper Rock Circle Suite 302, Rockville, MD 20850.

All comments received written or oral will become public and part of the Administrative Record.

Further information, including an electronic copy of the DEIS, may be found online on the following website: https://www.gsa.gov/ChetHNEPA.

FOR FURTHER INFORMATION CONTACT: Osmahn A. Kadri, Regional Environmental Quality Advisor/NEPA Project Manager, GSA, at 415-522-3617. Please also call this number if special assistance is needed to attend and participate in the public meeting.

SUPPLEMENTARY INFORMATION: The CHFB is located on a 92-acre site in Laguna Niguel, California, between Los Angeles and San Diego, and approximately 4 miles from the Pacific Ocean coastline. Construction of the building was completed in 1971 by the Aerospace and Systems Group of North American Rockwell Corporation, although it was never occupied by them. The building and site were transferred to the Federal Government in March of 1974. Since that time the CHFB has been utilized as office space for government agencies. The USCIS is currently the largest tenant in the CHFB, with 12 other agencies also currently located the building. There are currently approximately 3,000 employees working in the building.

The purpose of the Proposed Action is to accommodate the long-term office space requirements for the current tenants located at the CHFB that would meet applicable building code, accessibility, and security standards. The purpose is also to make such accommodations primarily within the Orange County, California market in a cost-effective manner that would minimize personnel relocations and disruptions to the federal tenants and their agency missions.

The project is needed because the current working space does not meet GSA's current federal building, accessibility, and security standards. There have been no modifications to the CHFB since the 1980s, other than some energy-related modifications. Most of the building's infrastructure is beyond its useful life and deficiencies have been documented in all major mechanical and electrical systems, including life-safety, fire protection, and fire sprinkler systems. Additionally, numerous issues exist, including the presence of asbestos containing materials and the need to improve the building's response to future seismic events.

The DEIS considers two “action” alternatives and one “no action” alternative. One action alternative consists of relocation of current tenants into lease space primarily throughout the Orange County, California market. Some tenants may be relocated outside of Orange County. The existing CHFB and surrounding government property would be reported as excess and turned over to the GSA Real Property Utilization Disposal Division for disposal.

The other action alternative consists of construction of a new federal office building directly south of the CHFB on a 27.15-acre portion of the existing 92-acre site for the USCIS, and relocating all other tenants into lease space primarily within the Orange County market. The existing building and the remainder of the property not retained for construction of the new federal office building (approximately 64.85 acres) would be turned over to the GSA Real Property Utilization Disposal Division for disposal.

Future development of the site is not part of GSA's Proposed Action, nor would it be within the control of GSA. If the property remains in federal ownership following disposal out of GSA ownership, the appropriate level of NEPA analysis would be required by a future federal proponent. If the property is transferred out of federal ownership, the City of Laguna Niguel would require the new owner to complete the appropriate level of documentation under the California Environmental Quality Act (CEQA), and all necessary land use approvals would be issued for any proposed future use of the site. Development of the site and compliance with all federal, state, and local laws and regulations would be the responsibility of the future landowner, not GSA.

The “no action” alternative assumes that tenants would remain within the existing CHFB and no new construction or relocation would occur. Minor repairs would occur as needed and maintenance and operation of the existing facilities would continue.

Public Comments: GSA will host a virtual public meeting during the public comment period as listed under DATES to solicit public comment. The purpose of the meeting is to collect public comments on the DEIS. The virtual public meeting will begin with presentations on the National Environmental Policy Act (NEPA) process and the proposed project. A copy of the presentation slideshow will be made available prior to the meeting at https://www.gsa.gov/ChetHNEPA.

Following the presentations, there will be a moderated session during which members of the public can provide oral comments on the DEIS. Commenters will be allowed three minutes to provide comments. Comments will be recorded. Refer to the end of this notice for instructions on how to access the online public meeting.

Virtual Public Meeting Information: Members of the public may join the DEIS public meeting by entering the following information—Meeting ID: 986 1911 2163; Password: CHFBEIS, using any of the below methods. Note that the meeting is best viewed through the Zoom app, and attendees are encouraged to download the app at the Zoom website (https://zoom.us) or on their mobile device, and test their connection prior to the meeting to ensure best results.

• From their personal computer by launching the Zoom app (if already installed), and clicking `Join a Meeting' and entering the above Meeting ID and Password. Attendees should follow the prompts to input their name and email address to access the meeting.

• From their personal computer, by going to the Zoom website at http://zoom.us/join, entering the Meeting ID and Password, and following the prompts to download and install the Zoom app.

• From their mobile device through the Zoom mobile app, by entering the above Meeting ID and Password.

• For attendees who do not have the Zoom app or do not wish to download the app, visit http://zoom.us/join using your computer's browser, enter the Meeting ID, and click the `Join from your browser' link that is displayed on the landing page. Then, follow the prompts to enter your name and the meeting Password.

Whether joining through the Zoom app or web browser, attendees should follow the prompts to connect their computer audio. Attendees are encouraged to connect through the `Computer Audio' tab and click `Join Audio by Computer' under the `Join Audio' button on the bottom of their screen. Users who do not have a computer microphone and wish to provide public comment during the meeting may connect by following the prompts under the `Phone Call' tab under the `Join Audio' button.

For members of the public who do not have access to a personal computer, they may join the meeting audio by dialing the following number: 669-900-9128. When prompted, enter the following information: Meeting ID—986 1911 2163, followed by the pound (#) key; press pound (#) again when prompted for a participant ID; then enter Password—629071 followed by the pound (#) key. Note, dialing in to the meeting is only necessary if you are not accessing the meeting through your computer or mobile app, or if you would like to provide oral comments during the meeting but do not have a computer microphone. The public meeting will be recorded, and all comments provided will become part of the formal record.

Jared Bradley,
Director, Portfolio Management Division, Pacific Rim Region, Public Buildings Service.

[FR Doc. 2020-14710 Filed 7-7-20; 8:45 am]

BILLING CODE 6820-YF-P